ENVIRONMENTAL PROTECTION AGENCY

[EPA-HQ-OW-2010-0828; FRL-9218-8]

Stakeholder Input; Listening Session Seeking Suggestions for Improving the Next National Pollutant Discharge Elimination System (NPDES) General Permit for Discharges Incidental to the Normal Operation of Vessels

AGENCY: Environmental Protection Agency (EPA).

ACTION: Notice.

SUMMARY: The Environmental Protection Agency is announcing plans to hold a “listening session” on December 15, 2010 to obtain suggestions from the public for improving the next Vessel General Permit (VGP). The listening session will be held in the EPA East Building, 1201 Constitution Ave., NW., Room 1153, Washington, DC 20004. The VGP is a Clean Water Act NPDES permit that authorizes, on a nationwide basis, discharges incidental to the normal operation of vessels as specified in Part 1.2.2 of the 2008 VGP. EPA seeks the views of the interested public on the requirements currently contained in the 2008 VGP, and any changes or additions recommended for the next VGP. The 2008 VGP expires on December 19, 2013 and EPA has begun the process of developing the next VGP.

DATES: The listening session will be held in Washington DC on December 15, 2010. If you would prefer to provide written comments, EPA is asking for comments or relevant information from the interested public to be submitted to the docket on or before December 31, 2010.

ADDRESSES: Submit your statements or input, identified by Docket ID No. EPA-HQ-OW-2010-0828 by one of the following methods:

• http://www.regulations.gov: Follow the on-line instructions for submitting comments.

• E-mail: ow-docket@epa.gov. Attention Docket ID No. EPA-HQ-OW-2010-0828.

• Mail: Water Docket Environmental Protection Agency, Mailcode: 28221T, 1200 Pennsylvania Ave., NW., Washington, DC 20460, Attention Docket ID No. OW-2010-0828.

• Hand Delivery: Water Docket, EPA Docket Center, EPA West Building Room 3334, 1301 Constitution Ave., NW., Washington, DC 20460, ID No. EPA-HQ-OW-2010-0828. Such deliveries are only accepted during the Docket's normal hours of operation, and special arrangements should be made for deliveries of boxed information.

Instructions: Direct your comments to Docket ID No. EPA-HQ-OW-2010-0828. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: For further information on the “listening session,” contact Shirley Fan at tel. 202-564-2425 or e-mail CommericalVesselPermit@epa.gov. For further information on the VGP, please contact Robin Danesi at 202-564-1846, Ryan Albert at (202) 564-0763 or e-mail commercialvesselpermit@epa.gov.

Public Listening Session: EPA will hold a public listening session to gather opinions from the public on changes or additions recommended for the next VGP. Written and oral statements will be accepted at the public listening session. Input generated from the public listening session will be compiled and archived in Docket ID No. EPA-HQ-OW-2010-0828 found at http://www.regulations.gov. The public listening session will begin with an EPA discussion of the background of the current VGP.

The date and time of the listening session is December 15, 2010, 9 a.m. to 5 p.m. The listening session will conclude early if all comments are heard. The listening session will be held at EPA HQ Office, EPA East Building, 1201 Constitution Ave., NW., Room 1153, Washington, DC 20004.

SUPPLEMENTARY INFORMATION:

I. General Information

A. Does This Action Apply to Me?

Today's notice does not contain or establish any regulatory requirements. Rather, it announces a public listening session and seeks recommendations to improve the next VGP.

Today's notice will be of interest to the general public, State permitting agencies, other Federal agencies, technology vendors and owners or operators of non-recreational vessels that may have discharges incidental to their normal operation. These vessel types may include, but are not limited to, barges, tugs, cruise ships, commercial fishing vessels, tankers, and ferries.

B. What Should I Consider as I Prepare My Comments for EPA?

1. Submitting CBI. Do not submit this information to EPA through http://www.regulations.gov or e-mail. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the notice by docket number and other identifying information (subject heading, Federal Register date, and page number).

• Follow directions—The agency may ask you to respond to specific questions or organize comments by referencing a specific section number in the VGP.

• Explain why you agree or disagree; suggest alternatives; and provide reasons for your suggested alternatives.

• Describe any assumptions and provide any technical information and/or data that you used.

• Provide specific examples to illustrate your concerns and suggest alternatives.

• Explain your views as clearly as possible.

Make sure to submit your comments by the comment period deadline identified. You may submit your comments electronically, by mail, through hand delivery/courier, or in person by attending the public listening session being held on December 15, 2010.

II. Background

In order to help the public prepare for the listening session, the following background information is provided. Please note that the information presented in this section is in summary form; for more detail, please consult the VGP and supporting documents [available at http://www.epa.gov/npdes/vessels].

Summary of 2008 VGP Requirements

A. Who is Subject to the 2008 VGP?

Vessels operating in a capacity as a means of transportation in the waters of the U.S., except recreational vessels as defined in CWA section 502(25) and vessels of the Armed Forces within the meaning of CWA [section] 312, that have discharges incidental to their normal operation are eligible for coverage under the VGP. With respect to (1) commercial fishing vessels of any size as defined in 46 U.S.C. 2101 and (2) those non-recreational vessels that are less than 79 feet in length, the coverage under the VGP is limited to ballast water discharges only and these vessels generally do not require permit coverage for other discharges. “Waters of the U.S.” is defined in EPA regulations to mean certain inland waters and the territorial sea, which extends three miles from the baseline. Note that the Clean Water Act (CWA) does not require NPDES permits for vessels or other floating craft operating as a means of transportation beyond the territorial seas, i.e., in the contiguous zone or ocean as defined by the CWA sections 502(9), (10). See CWA section 502(12) and 40 CFR 122.2 (definition of “discharge of a pollutant”). The VGP, therefore, does not apply in such waters.

B. What Does the 2008 VGP authorize?

The 2008 VGP addresses 26 vessel discharge streams by establishing effluent limits, including Best Management Practices (BMPs), to control the discharge of the waste streams and constituents found in those waste streams. The discharge streams eligible for coverage under this final permit as specified in Part 1.2.2 of the VGP are: Deck washdown and runoff and above water line hull cleaning; bilge water; ballast water; anti-fouling leachate from anti-fouling hull coatings; aqueous film forming foam (AFFF); boiler/economizer blowdown; cathodic protection; chain locker effluent; controllable pitch propeller hydraulic fluid and thruster hydraulic fluid and other oil sea interfaces including lubrication discharges from paddle wheel propulsion, stern tubes, thruster bearings, stabilizers, rudder bearings, azimuth thrusters, and propulsion pod lubrication; distillation and reverse osmosis brine; elevator pit effluent; firemain systems; freshwater layup; gas turbine wash water; graywater; motor gasoline and compensating discharge; non-oily machinery wastewater; refrigeration and air condensate discharge; seawater cooling overboard discharge; seawater piping biofouling prevention; small boat engine wet exhaust; sonar dome discharge, underwater ship husbandry; welldeck discharges; graywater mixed with sewage from vessels; and exhaust gas scrubber wash water discharge.

For each discharge type, among other things, the 2008 permit establishes effluent limits pertaining to the constituents found in the effluent, including BMPs designed to decrease the amount of constituents entering the waste stream. A vessel might not produce all of these discharges, but a vessel owner or operator is responsible for meeting the applicable effluent limits and complying with all the permit conditions for every listed discharge that the vessel produces.

C. Monitoring, Reporting, and Recordkeeping

The 2008 VGP requires a routine visual inspection and monitoring of all accessible areas of the vessel that the permit addresses. The routine self-inspection must be documented in the ship's logbook or other recordkeeping documentation. Analytical monitoring is required for certain types of discharges. The VGP also requires comprehensive annual vessel inspections, to ensure even the hard-to-reach areas of the vessel are inspected for permit compliance. If the vessel is placed in dry dock while covered under this permit, a dry dock inspection and report must be completed. Additional monitoring requirements are imposed on certain classes of vessels.

Vessel owner/operators are required to keep the following records on the vessel or accompanying tug as specified in Section 4.2 of the 2008 VGP: Owner/vessel information, voyage log, violation of any effluent limit, log of deficiencies and problems found during routine inspections conducted under Part 4.1.1 of the VGP, analytical results for all monitoring conducted under 4.1.2, log of findings from annual inspections conducted under Part 4.1.3, training records, and other records required by the 2008 permit. Vessels with ballast tanks are required to keep the following written information onboard: Total ballast water information; ballast water management; information on ballast water tanks that are to be discharged in waters subject to the 2008 permit or reception facility; and discharge of sediment.

The 2008 VGP requires a one-time permit report between 30 and 36 months after obtaining permit coverage. Vessel owner/operators must also report all instances of noncompliance with the VGP in an annual noncompliance report. If a noncompliance may endanger health or the environment, vessel owner/operators must report the noncompliance within 24 hours to the appropriate EPA Regional Office, and follow up with a written submission 5 days later.

D. Vessel Class-Specific Requirements

The 2008 VGP imposes additional requirements for 8 specific classes of vessels. These vessel types are medium cruise ships, large cruise ships, large ferries, barges, oil or petroleum tankers, research vessels, rescue boats, and vessels employing experimental ballast water treatment systems. The permit requirements are designed to address the discharges from features unique to those vessels, such as parking decks on ferries and overnight accommodations for passengers on cruise ships.

III. Request for Public Input and Comment

Today's notice is being issued to inform the public that EPA is beginning the process of developing the next VGP and to solicit comment on recommended improvements. EPA is accepting information during the listening session scheduled for December 15, 2010 and/or by submission of written comments or relevant information in order to gain early public input on improvements recommended for the next VGP.

In addition to generally requesting recommended changes for any aspect of the next VGP, in order to maximize the quality of the next permit, EPA is specifically requesting comment on the following:

(1) Were parts of the 2008 VGP confusing? Do certain sections need to provide additional guidance?

(2) Are there any guidances, supporting documentation, or other communication strategies that you would recommend EPA develop to help vessel owner/operators better understand and comply with the next VGP? If so, please suggest your approaches.

(3) Did the 2008 VGP accurately identify and capture all the categories of discharges incidental to the normal operation of a vessel in the vessel universe? Are there additional discharge categories EPA should explore for the next VGP?

(4) Are there effluent limitations or best management practices in the 2008 VGP you would recommend revising and if so, what are your suggestions and why do you suggest making those revisions?

(5) Are there reporting, monitoring, and inspection requirements you would recommend revising, and if so, what are your suggestions? Are there additional forms or guidances EPA should consider in assisting permittees in meeting their reporting, monitoring, and inspections requirements?

(6) Did EPA accurately identify and capture additional requirements needed for specific vessel classes and if not, what are your suggestions? Are there additional specific vessel classes EPA should explore for the next VGP and why?

(7) Are there additional Federal, State, or international permits, rules, or guidances EPA should consider using to inform decisions for the next VGP and why?

Dated: October 21, 2010.
James A. Hanlon,
Director, Office of Wastewater Management.

[FR Doc. 2010-27452 Filed 10-28-10; 8:45 am]

BILLING CODE 6560-50-P